DEPARTMENT OF THE INTERIOR

Bureau of Land Management

[OR-027-1020-PI-020H; HAG-06-0159]

Location Change for Steens Mountain Advisory Council Meeting

AGENCY: Bureau of Land Management, Burns District.

ACTION: Change of meeting location.

SUMMARY: The August 24 and 25, 2006, Steens Mountain Advisory Council meeting, previously scheduled to be held at the Bureau of Land Management, Burns District Office, 28910 Highway 20 West, Hines, Oregon 97738, has been moved to the Frenchglen School, 39235 Highway 205, Frenchglen, Oregon 97736. The original Federal Register notice announcing the meeting was published on February 6, 2006, page number 6090. The meeting session will begin the first day at 8 a.m., local time, and will end at 4:30 p.m., local time. The second day will begin at 8 a.m., local time, and will end at approximately 2 p.m., local time. The entire meeting is open to the public. Public comment is scheduled for 11 a.m. to 11:30 a.m., local time, both days of the meeting session.

FOR FURTHER INFORMATION CONTACT: Additional information concerning the Steens Mountain Advisory Council may be obtained from Rhonda Karges, Management Support Specialist, Burns District Office, 28910 Highway 20 West, Hines, Oregon 97738, (541) 573-4433 or Rhonda_Karges@or.blm.gov.

Dated: July 12, 2006.
Karla Bird,
Andrews Resource Area Field Manager.

[FR Doc. E6-11379 Filed 7-18-06; 8:45 am]

BILLING CODE 4310-33-P